ENVIRONMENTAL PROTECTION AGENCY

40 CFR Part 711

[EPA-HQ-OPPT-2014-0809; FRL-9928-99]

RIN 2070-AK01

Partial Exemption of Certain Chemical Substances From Reporting Additional Chemical Data

AGENCY: Environmental Protection Agency (EPA).

ACTION: Proposed rule.

SUMMARY: EPA is proposing to amend the list of chemical substances that are partially exempt from reporting additional information under the Chemical Data Reporting (CDR) rule. EPA has determined that, based on the totality of information available on the chemical substances listed in this proposed rule, there is a low current interest in their CDR processing and use information. EPA reached this conclusion after considering a number of factors, including the risk of adverse human health or environmental effects, information needs for CDR processing and use information, and the availability of other sources of comparable processing and use information.

DATES: Comments must be received on or before September 21, 2015.

ADDRESSES: Submit your comments, identified by docket identification (ID) number EPA-HQ-OPPT-2014-0809, by one of the following methods:

• Federal eRulemaking Portal: http://www.regulations.gov. Follow the online instructions for submitting comments.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT:

For technical information contact: Christina Thompson, Chemical Control Division (7405M), Office of Pollution Prevention and Toxics, Environmental Protection Agency, 1200 Pennsylvania Ave. NW., Washington, DC 20460-0001; telephone number: (202) 564-0983; email address: thompson.christina@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the agency taking?

This partial exemption would eliminate an existing reporting requirement under 40 CFR 711.6(b)(2). EPA is proposing to add the following chemical substances to the list of chemical substances that are exempt from reporting the information described in 40 CFR 711.15(b)(4): Fatty acids, C14-18 and C16-18 unsaturated, methyl esters (Chemical Abstract Services Registry Number (CASRN) 67762-26-9); Fatty acids, C16-18 and C-18 unsaturated, methyl esters (CASRN 67762-38-3); fatty acids, canola oil, methyl esters (CASRN 129828-16-6); Fatty acids, corn oil, methyl esters (CASRN 515152-40-6); Fatty acids, tallow, methyl esters (CASRN 61788-61-2); and Soybean oil, methyl esters (CASRN 67784-80-9). However, by existing terms at 40 CFR 711.6, this partial exemption will become inapplicable to a subject chemical substance in the event that the chemical substance later becomes the subject of a rule proposed or promulgated under section 4, 5(a)(2), 5(b)(4), or 6 of the Toxic Substances Control Act (TSCA); an enforceable consent agreement (ECA) developed under the procedures of 40 CFR part 790; an order issued under TSCA section 5(e) or 5(f); or relief that has been granted under a civil action under TSCA section 5 or 7.

B. Why is the agency taking this action?

This proposed rule is in response to a petition EPA received for these chemical substances (Refs. 2 and 3) submitted under 40 CFR 711.6(b)(2)(iii)(A). EPA reviewed the information put forward in the petition and additional information against the considerations listed at 40 CFR 711.6(b)(2)(ii). EPA's chemical substance-specific analysis is detailed in supplementary documents available in the docket under docket ID number EPA-HQ-OPPT-2014-0809 (Refs. 4, 5, 6, 7, 8, and 9). The Agency is proposing to add these chemical substances to the partially exempt chemical substances list because it has concluded that, based on the totality of information available, the CDR processing and use information for these chemical substances is of low current interest.

In the January 27, 2015 Federal Register (80 FR 4482) (FRL-9921-56), EPA published a direct final rule to add these six chemical substances to the list of chemical substances that are partially exempt from reporting additional information under the CDR rule. EPA received an adverse comment that is pertinent to all six of the chemical substances that were the subject of that direct final rule (EPA-HQ-OPPT-2014-0809-0014). In accordance with the procedures described in the January 27, 2015 Federal Register document, EPA withdrew the direct final rule. EPA is now proposing to make the same additions to the list of partially exempt chemical substances. Before taking final action on this proposal, EPA will consider the adverse comment it received in response to the direct final rule, together with any other timely comments it receives on this proposed rule. On the basis of comments received, EPA may finalize this proposed rule or revise its prior determination that the CDR processing and use information for these six chemical substances is of low current interest.

C. What is the agency's authority for taking this action?

This action is proposed under the authority of the Toxic Substances Control Act (TSCA), 15 U.S.C. 2600 et seq., to carry out the provisions of section 8(a), 15 U.S.C. 2607(a). TSCA section 8(a) authorizes EPA to promulgate rules under which manufacturers of chemical substances and mixtures must submit such information as the Agency may reasonably require. The partial exemption list was established in 2003 (Ref. 10) and can be found in 40 CFR 711.6.

D. What are the impacts of this action?

There are no costs associated with this action and the benefits provided would be related to avoiding potential costs. This partial exemption would eliminate an existing reporting requirement without imposing any new requirements. See also the discussion in Unit V of the January 27, 2015 Federal Register document.

E. Does this action apply to me?

You may be potentially affected by this action if you manufacture (defined by statute at 15 U.S.C. 2602(7) to include import) the chemical substances contained in this rule. The North American Industrial Classification System (NAICS) codes provided here are not intended to be exhaustive, but rather provide a guide to help readers determine whether this document applies to them. Potentially affected entities may include chemical manufacturers subject to CDR reporting of one or more subject chemical substances (NAICS codes 325 and 324110), e.g., chemical manufacturing and petroleum refineries.

F. What should I consider as I prepare my comments for EPA?

Do not submit CBI information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

II. Background

EPA published a direct final rule in the Federal Register of January 27, 2015 (80 FR 4482) (FRL-9921-56). The preamble to that direct final rule explained our reasons for amending the list of chemical substances that are partially exempt from reporting additional information under the TSCA CDR rule. In addition, EPA explained the low current interest partial exemption and petition process in 40 CFR 711.6(b)(2)(iv), and further explained that we would withdraw the amendment presented in the direct final rule if written adverse comment was received within 30 days of the publication of that direct final rule. Since EPA received written adverse comment, EPA has withdrawn the direct final rule in a separate document published in the Federal Register of March 30, 2015 (80 FR 16576) (FRL-9924-84), and is now issuing this proposed rule for the six chemical substances. The record for the direct final rule was established as docket EPA-HQ-OPPT-2014-0809.

III. References

The following is a listing of the documents that have been placed in the docket for this proposed rule. The docket contains information considered by EPA in developing this proposed rule, including the documents listed in this unit, which are physically located in the docket. In addition, interested parties should consult documents that are referenced in the documents that EPA has placed in the docket, regardless of whether the referenced document is physically located in the docket. For assistance in locating documents that are referenced in documents that EPA has placed in the docket, but that are not physically located in the docket, please consult the technical person listed under FOR FURTHER INFORMATION CONTACT. The docket is available for review as specified under ADDRESSES.

1. Public Comment from G. Valasek to EPA, February 26, 2015.

2. Letter from Biobased and Renewable Products Advocacy Group, to EPA, OPPT CDR Submission Coordinator, October 21, 2014. Docket ID number EPA-HQ-OPPT-2014-0809, regarding request for exemption of biodiesel products.

3. Letter from Biobased and Renewable Products Advocacy Group, to EPA, OPPT CDR Submission Coordinator, November 5. Docket ID number EPA-HQ-OPPT-2014-0809, supplement to request for exemption of biodiesel products.

4. EPA, OPPT. Fatty acids, C14-18 and C16-18 unsaturated, methyl esters (CASRN 67762-26-9) Partial Exemption Analysis. December 2014.

5. EPA, OPPT. Fatty acids, C16-18 and C-18 unsaturated, methyl esters (CASRN 67762-38-3) Partial Exemption Analysis. December 2014.

6. EPA, OPPT. Fatty acids, canola oil, methyl esters (CASRN 129828-16-6) Partial Exemption Analysis. December 2014.

7. EPA, OPPT. Fatty acids, corn oil, methyl esters (CASRN 515152-40-6) Partial Exemption Analysis. December 2014.

8. EPA, OPPT. Fatty acids, tallow, methyl esters (CASRN 61788-6-2) Partial Exemption Analysis. December 2014.

9. EPA, OPPT. Soybean oil, methyl esters (CASRN 67784-80-9) Partial Exemption Analysis. December 2014.

10. EPA. TSCA Inventory Update Rule Amendments; Final Rule. Federal Register (68 FR 848, January 7, 2003) (FRL-6767-4).

IV. Statutory and Executive Order Reviews

A. Executive Order 12866: Regulatory Planning and Review and Executive Order 13563: Improving Regulation and Regulatory Review

This action is not a significant regulatory action as defined by Executive Order 12866 (58 FR 51735, October 4, 1993). Accordingly, this action was not submitted to the Office of Management and Budget (OMB) for review under Executive Orders 12866 and 13563 (76 FR 3821, January 21, 2011).

B. Paperwork Reduction Act (PRA)

According to the PRA, 44 U.S.C. 3501 et seq., an agency may not conduct or sponsor, and a person is not required to respond to a collection of information that requires OMB approval under PRA, unless it has been approved by OMB and displays a currently valid OMB control number. The OMB control numbers for EPA regulations in title 40 of the CFR, after appearing in the Federal Register, are listed in 40 CFR part 9, and included on the related collection instrument or form, as applicable.

The information collection requirements related to CDR have already been approved by OMB pursuant to the PRA under OMB control number 2070-0162 (EPA ICR No. 1884.06). Since this action will create a partial exemption from that reporting, without creating any new reporting or recordkeeping requirements, this action will not impose any new burdens that require additional OMB approval.

C. Regulatory Flexibility Act (RFA)

I certify that this action will not have a significant economic impact on a substantial number of small entities under the RFA, 5 U.S.C. § 601 et seq. In making this determination, the impact of concern is any significant adverse economic impact on small entities, because the primary purpose of a final regulatory flexibility analysis is to identify and address regulatory alternatives that “minimize the significant economic impact on small entities” 5 U.S.C. 604. Thus, an agency may certify that a rule will not have a significant economic impact on a substantial number of small entities if the rule has no net burden effect on the small entities subject to the rule.

As indicated previously, EPA is proposing to eliminate an existing reporting requirement for the chemical identified in this document. In granting a partial exemption from existing reporting, this rule will not have a significant economic impact on any affected entities, regardless of their size.

D. Unfunded Mandates Reform Act (UMRA)

This action does not contain any unfunded mandate as described in UMRA, 2 U.S.C. 1531-1538, and does not significantly or uniquely affect small governments. In granting a partial exemption from existing reporting, this action will impose no new enforceable duty on any State, local or tribal governments, or on the private sector. In addition, based on EPA's experience with chemical data reporting under TSCA, State, local, and Tribal governments are not engaged in the activities that would require them to report chemical data under 40 CFR part 711.

E. Executive Order 13132: Federalism

This action will not have a substantial direct effect on States, on the relationship between the national government and the States, or on the distribution of power and responsibilities among the various levels of government, as specified in Executive Order 13132 (64 FR 43255, August 10, 1999).

F. Executive Order 13175: Consultation and Coordination With Indian Tribal Governments

This action will not have Tribal implications because it is not expected to have substantial direct effects on Indian Tribes. This action will not significantly or uniquely affect the communities of Indian Tribal governments, nor involve or impose any requirements that affect Indian Tribes. Accordingly, the requirements of Executive Order 13175 (65 FR 67249, November 9, 2000) do not apply to this rule.

G. Executive Order 13045: Protection of Children From Environmental Health Risks and Safety Risks

This action is not subject to Executive Order 13045 (62 FR 19885, April 23, 1997), because this action does not address environmental health or safety risks disproportionately affecting children.

H. Executive Order 13211: Actions That Significantly Affect Energy Supply, Distribution, or Use

This action is not subject to Executive Order 13211 (66 FR 28355, May 22, 2001), because this action is not expected to affect energy supply, distribution, or use.

I. National Technology Transfer Advancement Act (NTTAA)

Since this action does not involve any technical standards, NTTAA section 12(d), 15 U.S.C. 272 note, does not apply to this action.

J. Executive Order 12898: Federal Actions To Address Environmental Justice in Minority Populations and Low-Income Populations

EPA has determined that this action will not have disproportionately high and adverse human health or environmental effects on minority or low-income populations because it does not affect the level of protection provided to human health or the environment. As such, this action does not entail special considerations of environmental justice related issues as delineated by Executive Order 12898 (59 FR 7629, February 16, 1994).

List of Subjects in 40 CFR Part 711

Environmental protection, Chemicals, Hazardous substances, Reporting and recordkeeping requirements.

Dated: July 13, 2015.
James Jones,
Assistant Administrator, Office of Chemical Safety and Pollution Prevention.

Therefore, it is proposed that 40 CFR chapter I be amended as follows:

PART 711—[AMENDED]

1. The authority citation for part 711 continues to read as follows:

Authority: 15 U.S.C. 2607(a).

2. In § 711.6, add in numerical order by CASRN number the following entries to Table 2 in paragraph (b)(2)(iv) to read as follows:

§ 711.6 Chemical substances for which information is not required.

* * * * *

(b) * * *

(2) * * *

(iv) * * *

Table 2—CASRN of Partially Exempt Chemical Substances
CASRN | Chemical
* * * * * * *
61788-61-2 | Fatty acids, tallow, methyl esters.
* * * * * * *
67762-26-9 | Fatty acids, C14-18 and C16-18 unsaturated, methyl esters.
67762-38-3 | Fatty acids, C16-18 and C-18 unsaturated, methyl esters.
67784-80-9 | Soybean oil, methyl esters.
* * * * * * *
129828-16-6 | Fatty acids, canola oil, methyl esters.
515152-40-6 | Fatty acids, corn oil, methyl esters.
* * * * * * *

* * * * *

[FR Doc. 2015-17629 Filed 7-21-15; 8:45 am]

BILLING CODE 6560-50-P